DEPARTMENT OF JUSTICE

Antitrust Division

Notice Pursuant to the National Cooperative Research and Production Act of 1993—OCP International Partnership Association, Inc.

Notice is hereby given that, on February 6, 2003, pursuant to Section 6(a) of the National Cooperative Research and Production Act of 1993, 15 U.S.C. 4301 et seq. (“the Act”), OCP International Partnership Association, Inc. (“OCP-IP”) has filed written notifications simultaneously with the Attorney General and the Federal Trade Commission disclosing changes in its membership status. The notifications were filed for the purpose of extending the Act's provisions limiting the recovery of antitrust plaintiffs to actual damages under specified circumstances. Specifically, Accent s.r.l., Vimercate, Italy; Acculent Corp., Colorado Springs, CO; Advanced Art Architectures, Irvine, CA; Artisan Components, Inc., Sunnyvale, CA; Amphion Semiconductor Ltd., Belfast, Northern Ireland, United Kingdom; Broadcom Corp., Irvine, CA; CAST, Inc., Woodcliff Lake, NJ; Denali Software, Inc., Palo Alto, CA; Duolog Technologies, Dublin, Ireland; Entropic Communications, Inc., San Diego, CA; Esterel Technologies, Elancourt, France; MIPS Technologies, Inc., Mountain View, CA; Nokia, Keilalahdentie, Finland; Paradigm Works, Inc., Andover, MA; Prosilog S A, Paris, France; Qthink, San Diego, CA; Silicon & Software Systems, Ltd., Dublin, Ireland; Silicon Designs International, Inc., San Diego, CA; Siroyan Limited, Reading, Berkshire, United Kingdom; Sonics, Inc., Mountain View, CA; Texas Instruments, Inc., Dallas, TX; TNI-Valiosys, Caen, France; Tower Semiconductor Ltd., Migdal Haemek, Israel; TranSwitch Corporation, Shelton, CT; United Microelectronics Corp. (UMC), Hsinchu, Taiwan, R.O.C.; The Virtual Component Exchange (VCX), Livingstone, Scotland, United Kingdom; Verisity Design, Inc., Mountain View, CA; Virtual IP Group, Inc., Sunnyvale, CA; Virtual Silicon Technology, Inc., Sunnyvale, CA; and YogiTech Spas, Pisa, Italy have been added as parties to this venture.

No other changes have been made in either the membership or planned activity of the group research project. Membership in this group research project remains open, and OCP-IP intends to file additional written notification disclosing all changes in membership.

On May 10, 2002, OCP-IP filed its original notification pursuant to Section 6(a) of the Act. The Department of Justice published a notice in the Federal Register pursuant to Section 6(b) of the act on June 18, 2002 (67 FR 41483).

The last notification was filed with the Department on July 8, 2002. A notice was published in the Federal Register pursuant to Section 6(b) of the Act on August 9, 2002 (67 FR 51869).

Constance K. Robinson,
Director of Operations, Antitrust Division.

[FR Doc. 03-5603 Filed 3-7-03; 8:45 am]

BILLING CODE 4410-11-M